DEPARTMENT OF AGRICULTURE

NATURAL RESOURCES CONSERVATION SERVICE

Taylor Creek-Nubbin Slough Watershed, Okeechobee, Martin and St. Lucie Counties, FL

AGENCY: Natural Resources Conservation Service, USDA.

ACTION: Notice of a finding of No Significant Impact.

SUMMARY: Pursuant to section 102(2)(c) of the National Environmental Policy Act of 1969; the Council on Environmental Quality Regulations (40 CFR part 1500); and the Natural Resources Conservation Service Regulations (7 CFR part 650); the Natural Resources Conservation Service, U.S. Department of Agriculture, gives notice that an Environmental Impact Statement is not being prepared for the Taylor Creek-Nubbin Slough Watershed, Okeechobee, Martin and St. Lucie counties, Florida.

FOR FURTHER INFORMATION CONTACT: T. Niles Glasgow, State Conservationist, Natural Resources Conservation Service, P.O. Box 141510, Gainesville, Fl 32614, (352) 338-9500.

SUPPLEMENTARY INFORMATION: The Environmental Assessment of this federally assisted action indicates that the project will not cause significant local, regional, or national impacts on the environment. As a result of these findings, Niles Glasgow, State Conservationist, has determined that the preparation and review of an Environmental Impact Statement is not needed for this project.

Proposed is the implementation of conservation practices on cow/calf farms and dairies in order to reduce phosphorus loads in the watershed and assist in achieving the Total Maximum Daily Load (TMDL) for Lake Okeechobee.

The Notice of a Finding of No Significant Impact (FONSI) has been forwarded to the Environmental Protection Agency and to various Federal, State, and local agencies and other interested parties. A limited number of copies of the FONSI are available to fill single copy requests at the above address. basic data developed during the Environmental Assessment are on file and may be reviewed by contacting Jessica Bertine, Agricultural Economist, Gainesville, FL, (352) 338-9513.

No administrative action on implementation of the proposal will be taken until 30 days after the date of this publication in the Federal Register.

T. Niles Glasgow,
State Conservationist.

[FR Doc. 03-28503 Filed 11-13-03; 8:45 am]

BILLING CODE 3410-16-M